DEPARTMENT OF THE INTERIOR

Bureau of Land Management

[223.LLID910000.L18200000.XZ0000.241A0 MO #4500161655]

Notice of Public Meetings of the Idaho Resource Advisory Council and the Proposed Lava Ridge Wind Energy Project Subcommittee

AGENCY: Bureau of Land Management, Interior.

ACTION: Notice of public meetings.

SUMMARY: In accordance with the Federal Land Policy and Management Act of 1976 and the Federal Advisory Committee Act of 1972, the U.S. Department of the Interior Bureau of Land Management's (BLM) Idaho Resource Advisory Council (Idaho RAC) and the Proposed Lava Ridge Wind Energy Project Subcommittee (Lava Ridge Subcommittee) will meet as indicated below.

DATES: The BLM Idaho RAC and Lava Ridge Subcommittee will meet as follows:

• The Idaho RAC and Lava Ridge Subcommittee will host a field tour on Wednesday, June 15, 2022 from 8:00 a.m. to 5:30 p.m. Mountain Daylight Time.

• The Lava Ridge Subcommittee will host virtual meetings on Thursday, July 7, 2022; Thursday, August 25, 2022; and Thursday, September 22, 2022 from 9:00 a.m. to 5:00 p.m. Mountain Daylight Time.

• The Idaho RAC will host an in-person meeting on Wednesday, October 19, 2022 from 9:00 a.m. to 5:00 p.m. Mountain Daylight Time at the BLM Twin Falls District Office, 2878 Addison Avenue East, Twin Falls, Idaho, 83301. A virtual participation option will also be available. The entire meeting may be held virtually depending on public health recommendations in place at the time of the meeting. Public notice of the change will be posted on the RAC's web page 15 days in advance of the meeting.

The field tour and all meetings are open to the public and public comment periods will be held at each meeting and at the field tour.

ADDRESSES: The June 15 field tour will commence at 8:00 a.m. at the BLM Twin Falls District Office, 2878 Addison Avenue East, Twin Falls, Idaho, 83301. Participants will then travel to the Minidoka National Historic Site, Wilson Butte Cave, and Sid Butte. All virtual meetings will be held via the Zoom platform. Agendas, Zoom registration, and participation information will be available on the RAC's web page 30 days in advance of the meetings at https://www.blm.gov/get-involved/resource-advisory-council/near-you/idaho.

FOR FURTHER INFORMATION CONTACT: MJ Byrne, 1387 South Vinnell Way, Boise, Idaho 83709; (208) 373-4006; mbyrne@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Idaho RAC is chartered, and the 15 members are appointed by the Secretary of the Interior. Their diverse perspectives are represented in commodity, non-commodity, and local interests. The Idaho RAC serves in an advisory capacity to BLM officials concerning issues relating to land use planning and management of public land resources located within the State of Idaho. The Idaho RAC formed the Lava Ridge Subcommittee to compile information, conduct research, and report their recommendations to the full Council for consideration. The BLM Shoshone Field Office is currently developing an Environmental Impact Statement to analyze the proposed Lava Ridge Wind Energy Project, a commercial-scale wind energy facility that is proposed to be constructed on BLM-managed public land in southern Idaho.

The June 15 Subcommittee and RAC field tour is to sites associated with the proposed Project. The public comment period for the Wednesday, June 15, 2022, field tour will be held at 4:45 p.m.

The July 7 Subcommittee meeting will focus on providing background information on the proposed Project, the NEPA process, and stakeholder prospective. The August 25 Subcommittee meeting will include a review of the Draft Environmental Impact Statement (DEIS) and presentations on alternatives. The September 22 Subcommittee meeting will focus on compiling information for consideration of the RAC on the DEIS alternatives. The October 19 RAC meeting will include State Director and District Office updates; a presentation on the Payette River System Draft Business Plan; an update on the proposed Project, a presentation on Subcommittee findings relating to the proposed Project, and development of associated RAC recommendations; and a presentation on Bipartisan Infrastructure Law implementation and projects.

The times that public comment periods will be held during the meetings will be specified in agendas that will be posted on the RAC's web page 30 days in advance of meetings. Contingent on the number of people who wish to comment during the public comment period, individual comments may be limited. Written comments may be submitted to the contact listed in the FOR FURTHER INFORMATION CONTACT section of this notice. Comments received at least one week in advance of the meetings will be provided to the Idaho RAC and Lava Ridge Subcommittee members prior to the meetings. Please include “RAC comment” or “Lava Ridge Subcommittee comment” in your submission.

Before including your address, phone number, email address, or other personal identifying information in your comments, please be aware that your entire comment—including your personal identifying information—may be made publicly available at any time. While you can ask us in your comments to withhold your personal identifying information from public review, we cannot guarantee that we will be able to do so.

Members of the public are welcome on the field tour but must provide their own transportation and meals. Individuals who plan to attend must RSVP at least one week in advance of the field tour to the contact listed in the FOR FURTHER INFORMATION CONTACT section of this notice. Individuals who need special assistance, such as sign language interpretation and other reasonable accommodations, also should contact the person listed in the FOR FURTHER INFORMATION CONTACT section of this notice. The field tour will follow current Centers for Disease Control and Prevention COVID-19 guidance regarding social distancing and wearing of masks. Detailed summary minutes for the Idaho RAC and Lava Ridge Subcommittee meetings will be maintained in the BLM Idaho State Office and will be available for public inspection and reproduction during regular business hours within 30 days following the meetings. Previous minutes and agendas are also available on the RAC's web page at https://www.blm.gov/get-involved/resource-advisory-council/near-you/idaho.

(Authority: 43 CFR 1784.4-2)

Karen Kelleher,
Idaho State Director.

[FR Doc. 2022-09527 Filed 5-3-22; 8:45 am]

BILLING CODE 4310-GG-P